DEPARTMENT OF ENERGY

Federal Energy Regulatory Commission

Combined Notice of Filings #2

Take notice that the Commission received the following electric rate filings:

Docket Numbers: ER11-3279-004.

Applicants: Midcontinent Independent System Operator, Inc.

Description: Compliance filing: 2016-04-18_Schedule 37 Compliance Filing to be effective 6/1/2011.

Filed Date: 4/18/16.

Accession Number: 20160418-5150.

Comments Due: 5 p.m. ET 5/9/16.

Docket Numbers: ER15-1248-000.

Applicants: Michigan Electric Transmission Company, LLC.

Description: Formal Challenge, et. al. of Consumers Energy Company to March 13, 2015 Annual Informational Attachment O filing, as supplemented on March 27, 2016 of Michigan Electric Transmission Company, LLC.

Filed Date: 4/15/16.

Accession Number: 20160415-5344.

Comments Due: 5 p.m. ET 5/6/16.

Docket Numbers: ER16-833-001.

Applicants: Midcontinent Independent System Operator, Inc.

Description: Compliance filing: 2016-04-18_PRA Compliance Filing to be effective 1/30/2016.

Filed Date: 4/18/16.

Accession Number: 20160418-5201.

Comments Due: 5 p.m. ET 5/9/16.

Docket Numbers: ER16-1169-000.

Applicants: Ameren Illinois Company.

Description: Motion to Intervene and Formal Challenge of the Southwestern Electric Cooperative, Inc. and Southern Illinois Power Cooperative, Inc.

Filed Date: 4/15/16.

Accession Number: 20160415-5328.

Comments Due: 5 p.m. ET 5/6/16.

Docket Numbers: ER16-1188-000.

Applicants: Consumers Energy Company.

Description: Formal Challenge of Michigan Electric Transmission Company, LLC to March 15, 2016 inputs into Formula Rate of Consumers Energy Company.

Filed Date: 4/15/16.

Accession Number: 20160415-5332.

Comments Due: 5 p.m. ET 5/6/16.

Docket Numbers: ER16-1445-000.

Applicants: Dynegy Midwest Generation, LLC.

Description: § 205(d) Rate Filing: Revised Rate Schedule and Request for Expedited Treatment to be effective 6/1/2016.

Filed Date: 4/18/16.

Accession Number: 20160418-5134.

Comments Due: 5 p.m. ET 5/9/16.

Docket Numbers: ER16-1446-000.

Applicants: Southwest Power Pool, Inc.

Description: § 205(d) Rate Filing: 2888R1 Arkansas Electric Cooperative Corp NITSA NOA to be effective 4/1/2016.

Filed Date: 4/18/16.

Accession Number: 20160418-5137.

Comments Due: 5 p.m. ET 5/9/16.

Docket Numbers: ER16-1447-000.

Applicants: Public Service Company of Colorado.

Description: Compliance filing: PSCo-Stlmnt Losses Comp to be effective 4/16/2016.

Filed Date: 4/18/16.

Accession Number: 20160418-5184.

Comments Due: 5 p.m. ET 5/9/16.

Docket Numbers: ER16-1448-000.

Applicants: Southern California Edison Company.

Description: § 205(d) Rate Filing: Service Agreement No. 881 and 882 to be effective 4/22/2016.

Filed Date: 4/18/16.

Accession Number: 20160418-5203.

Comments Due: 5 p.m. ET 5/9/16.

Docket Numbers: ER16-1449-000.

Applicants: PJM Interconnection, L.L.C.

Description: § 205(d) Rate Filing: Amendment to WMPA SA No. 2934, Queue No. W2-080 per Assignment to SNNJ1 to be effective 10/5/2014.

Filed Date: 4/18/16.

Accession Number: 20160418-5210.

Comments Due: 5 p.m. ET 5/9/16.

Docket Numbers: ER16-1450-000.

Applicants: Midcontinent Independent System Operator, Inc.

Description: § 205(d) Rate Filing: 2016-04-18_SA 2838 METC-AEP IA Certificate of Concurrence to be effective 3/25/2016.

Filed Date: 4/18/16.

Accession Number: 20160418-5228.

Comments Due: 5 p.m. ET 5/9/16.

Docket Numbers: ER16-1451-000.

Applicants: Powerex Corp.

Description: Notice of Cancellation of First Revised Rate Schedule FERC No. 2 of Powerex Corp.

Filed Date: 4/18/16.

Accession Number: 20160418-5255.

Comments Due: 5 p.m. ET 5/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2016.
Kimberly D. Bose,
Secretary.

[FR Doc. 2016-09349 Filed 4-21-16; 8:45 am]

BILLING CODE 6717-01-P